DEPARTMENT OF AGRICULTURE

Forest Service

California Coast Provincial Advisory Committee

AGENCY: Forest Service, USDA.

ACTION: Notice of meeting.

SUMMARY: the California Coast Provincial Advisory Committee (CCPAC) will meet on June 28, 2006, in Eureka, California. The purpose of the meeting is to discuss issues relating to implementing the Northwest Forest Plan (NWFP).

DATES: The meeting will be held from 10 a.m. to 3:45 p.m. on June 28, 2006.

ADDRESSES: The meeting will be held at the Six Rivers National Forest, Supervisor's Office, 1330 Bayshore Way, Eureka, California.

FOR FURTHER INFORMATION CONTACT: Kathy Allen, Committee Coordinator, USDA, Six Rivers National Forest, 1330 Bayshore Way, Eureka, CA 95501 (707) 441-3557 kmallen@fs.fed.us.

SUPPLEMENTARY INFORMATION: The meeting agenda items to be covered include: (1) NWFP 10 Year Status Review—Northern Province Forests; (2) NWFP Update—Increased Funding and Timber Targets; (3) “The Shrinking Land Base” PowerPoint Presentation; (4) Survey and Manage Update; (5) Mendocino and Six Rivers National Forests Business Plans; and (6) Developing Forest Restoration Planning and Implementation Guideline and Associated Agreements.

The meeting is open to the public. Public input opportunity will be provided and individuals will have the opportunity to address the Committee at that time.

Dated: June 6, 2006.
William Metz,
Acting Forest Supervisor.

[FR Doc. 06-5289 Filed 6-9-06; 8:45 am]

BILLING CODE 3410-11-M